DEPARTMENT OF COMMERCE

Foreign-Trade Zones Board

[B-16-2019]

Foreign-Trade Zone (FTZ) 151—Findlay, Ohio; Notification of Proposed Production Activity; Whirlpool Corporation (Dishwashers); Findlay, Ohio

Whirlpool Corporation (Whirlpool) submitted a notification of proposed production activity to the FTZ Board for its facility in Findlay, Ohio. The notification conforming to the requirements of the regulations of the FTZ Board (15 CFR 400.22) was received on March 18, 2019.

The Whirlpool facility is located within Subzone 151E. The facility is used for the production of dishwashers and dishwasher sub-assemblies. Pursuant to 15 CFR 400.14(b), FTZ activity would be limited to the specific foreign-status materials and components and specific finished products described in the submitted notification (as described below) and subsequently authorized by the FTZ Board.

Production under FTZ procedures could exempt Whirlpool from customs duty payments on the foreign-status components used in export production. On its domestic sales, for the foreign-status materials/components noted below, Whirlpool would be able to choose the duty rates during customs entry procedures that apply to: Steel screw kits; axial fans; dishwashers; dishwasher sub-assemblies; handles; worm gears; DC motors; single phase AC motors; harnesses with WiFi modules; switches; control assemblies; wire harnesses; and, light assemblies (duty rate ranges from duty-free to 8.5%). Whirlpool would be able to avoid duty on foreign-status components which become scrap/waste. Customs duties also could possibly be deferred or reduced on foreign-status production equipment.

The components and materials sourced from abroad include: Plastic fill hoses; plastic tape; plastic labels; plastic self-adhesive seals; plastic foam seals; plastic reinforced seals; plastic nuts; plastic cable ties; rubber hoses; rubber gaskets; rubber grommets; steel screws; steel nuts; steel helical springs; steel hose clamps; steel latch plates; brass washers; threaded brass inserts; centrifugal pumps; air filters; inner and outer doors; front exterior panels; hinges; spray arms; detergent dispensers; dish rack tracks and mounts; plastic rack wheels; steel wire dish racks; chassis tubs; plastic grommets; lid gaskets; manifolds; solenoid valves; control valves; valve housings; gearboxes; pinion gears; worm gears; bevel gears; synchronous motors; universal AC/DC motors; DC motors; single and multi-phase AC motors; fixed capacitors; dielectric fixed capacitors; fuses; relays; overload protectors; grounding tabs; control panels/user interfaces; consoles; printed circuit assemblies; plastic buttons; LED lamps; wire harnesses; and, internal light fittings (duty rate ranges from duty-free to 8.5%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary at the address below. The closing period for their receipt is May 6, 2019.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: March 20, 2019.
Andrew McGilvray,
Executive Secretary.

[FR Doc. 2019-05733 Filed 3-25-19; 8:45 am]

BILLING CODE 3510-DS-P